DEPARTMENT OF EDUCATION

[CFDA Nos.: 84.133B-1, 84.133B-5, 84.133B-7]

Office of Special Education and Rehabilitative Services; National Institute on Disability and Rehabilitation Research—Rehabilitation Research and Training Centers (RRTC) Program; Notice Inviting Applications for Fiscal Year (FY) 2003; Correction

SUMMARY: On May 29, 2003 a notice inviting applications for new awards for Rehabilitation Research and Training Centers (RRTCs) for fiscal year (FY) 2003 was published in the Federal Register (68 FR 32023).

On page 32023, in the table, for 84.133B-5 Community Integration Outcomes, the “Estimated available funds” figure reads “2,400,000” and the “Maximum award amount (per year)” figure reads “600,000”. These figures, respectively, are corrected to read “3,000,000” and “750,000”.

On page 32023, in the table, for 84.133B-7 Health and Function, the “Estimated available funds” figure reads “200,000” and the “Maximum award amount (per year)” figure reads “$600,000”. These figures, respectively, are corrected to read “5,600,000” and “800,000”.

FOR FURTHER INFORMATION CONTACT: Donna Nangle, U.S. Department of Education, 400 Maryland Avenue, SW., room 3412, Switzer Building, Washington, DC 20202-2645. Telephone: (202) 205-5880 or via Internet: Donna.Nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 29 U.S.C. 762(g) and 764(b)(2).

Dated: June 6, 2003.
Loretta Petty Chittum,
Acting Assistant Secretary for Special Education and Rehabilitative Services.

[FR Doc. 03-14784 Filed 6-10-03; 8:45 am]

BILLING CODE 4000-01-P